ENVIRONMENTAL PROTECTION AGENCY

40 CFR Part 52

[EPA-R01-OAR-2007-0373; A-1-FRL-8461-5]

Approval and Promulgation of Air Quality Implementation Plans; Connecticut; Establishment of Interim Progress for the Annual Fine Particle National Ambient Air Quality Standard

AGENCY: Environmental Protection Agency (EPA).

ACTION: Direct final rule.

SUMMARY: The EPA is approving a State Implementation Plan (SIP) revision submitted by the State of Connecticut. This revision establishes early fine particulate (PM2.5) transportation conformity emission budgets for the Connecticut portion of the New York-Northern New Jersey-Long Island, NY-NJ-CT PM2.5 nonattainment area. This action is being taken under the Clean Air Act.

DATES: This direct final rule will be effective October 29, 2007, unless EPA receives adverse comments by October 1, 2007. If adverse comments are received, EPA will publish a timely withdrawal of the direct final rule in the Federal Register informing the public that the rule will not take effect.

ADDRESSES: Submit your comments, identified by Docket ID Number EPA-R01-OAR-2007-0373 by one of the following methods:

1. http://www.regulations.gov: Follow the on-line instructions for submitting comments.

2. E-mail: arnold.anne@epa.gov.

3. Fax: (617) 918-0047.

4. Mail: “Docket Identification Number EPA-R01-OAR-2007-0373”, Anne Arnold, U.S. Environmental Protection Agency, EPA New England Regional Office, One Congress Street, Suite 1100 (mail code CAQ), Boston, MA 02114-2023.

5. Hand Delivery or Courier. Deliver your comments to: Anne Arnold, Manager, Air Quality Planning Unit, Office of Ecosystem Protection, U.S. Environmental Protection Agency, EPA New England Regional Office, One Congress Street, 11th floor, (CAQ), Boston, MA 02114-2023. Such deliveries are only accepted during the Regional Office's normal hours of operation. The Regional Office's official hours of business are Monday through Friday, 8:30 a.m. to 4:30 p.m., excluding legal holidays.

Instructions: Direct your comments to Docket ID No. EPA-R01-OAR-2007-0373. EPA's policy is that all comments received will be included in the public docket without change and may be made available online at www.regulations.gov, including any personal information provided, unless the comment includes information claimed to be Confidential Business Information (CBI) or other information whose disclosure is restricted by statute. Do not submit through www.regulations.gov, or e-mail, information that you consider to be CBI or otherwise protected. The www.regulations.gov Web site is an “anonymous access” systems, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at Office of Ecosystem Protection, U.S. Environmental Protection Agency, EPA New England Regional Office, One Congress Street, Suite 1100, Boston, MA. EPA requests that if at all possible, you contact the contact listed in the FOR FURTHER INFORMATION CONTACT section to schedule your inspection. The Regional Office's official hours of business are Monday through Friday, 8:30 a.m. to 4:30 p.m., excluding legal holidays.

In addition, copies of the state submittal are also available for public inspection during normal business hours, by appointment at the State Air Agency, the Bureau of Air Management, Department of Environmental Protection, State Office Building, 79 Elm Street, Hartford, CT 06106-1630.

FOR FURTHER INFORMATION CONTACT: Donald O. Cooke, Air Quality Planning Unit, U.S. Environmental Protection Agency, EPA New England Regional Office, One Congress Street, Suite 1100 (CAQ), Boston, MA 02114-2023, telephone number (617) 918-1668, fax number (617) 918-0668, e-mail cooke.donald@epa.gov.

SUPPLEMENTARY INFORMATION: Organization of this document. The following outline is provided to aid in locating information in this preamble.

I. Background and Purpose

II. Comparison of Year 2002 Emissions to Year 2009

III. Adequacy Process and SIP Approval

IV. Transportation Conformity Motor Vehicle Emissions Budgets

V. Basis for Approval

VI. Final Action

VII. Statutory and Executive Order Reviews

I. Background and Purpose

On December 17, 2004, (69 FR 943; January 5, 2005), EPA designated the New York-Northern New Jersey-Long Island, NY-NJ-CT area as nonattainment for the annual National Ambient Air Quality Standards (NAAQSs) for fine particle pollution or PM2.5. [Airborne particles less than or equal to 2.5 micrometers in diameter are considered to be “fine particles,” also referred to as PM2.5.] One year after the April 5, 2005 effective date of the PM2.5 designations, transportation conformity applies to this multi-state PM2.5 nonattainment area. Within three years of final designation, (by April 5, 2008), consistent with section 172(b) of the Clean Air Act, and 40 CFR 51.1002 of the PM2.5 implementation regulations, the States of New Jersey, New York and Connecticut are required to submit an attainment demonstration and adopted regulations ensuring that the New York-Northern New Jersey-Long Island, NY-NJ-CT PM2.5 nonattainment area will attain the National Ambient Air Quality Standards as expeditiously as practicable. This PM2.5 attainment demonstration must include motor vehicle emissions budgets for direct PM2.5 (including re-entrained road dust and/or highway and transit construction dust if determined significant contributors), and any PM2.5 precursors determined to be significant (which may include nitrogen oxides (NOX), volatile organic compounds (VOC), sulfur dioxide (SO2) and ammonia (NH3)). The SIP must clearly identify the budgets (motor vehicle emissions budgets) for transportation conformity purposes.

In the June 8, 2006 Federal Register (71 FR 33305), EPA announced that the direct PM2.5 and NOX motor vehicle emissions budgets identified in New Jersey's PM2.5 early progress state implementation plan (SIP) for the New Jersey portion of the NY-NJ-CT PM2.5 nonattainment area were adequate for transportation conformity purposes. As a result of EPA's adequacy finding, the two metropolitan planning organizations in northern New Jersey (the North Jersey Transportation Planning Authority (NJTPA) and the Delaware Valley Regional Planning Commission (DVRPC)) must use the new 2009 direct PM2.5 and NOX budgets from the early progress PM2.5 SIP for future conformity determinations. In addition, with the establishment of adequate motor vehicle emissions budgets, New Jersey can independently determine conformity for the New Jersey portion of the NY-NJ-CT PM2.5 nonattainment area and is no longer tied to New York and Connecticut for transportation conformity determinations. On July 10, 2006, EPA approved the PM2.5 motor vehicle emissions budgets for Northern New Jersey into the New Jersey SIP (71 FR 38770).

On April 17, 2007, the Connecticut Department of Environmental Protection (DEP) submitted a revision to its SIP for establishing early fine particulate (PM2.5) transportation conformity emission budgets for the Connecticut portion of the New York-Northern New Jersey-Long Island, NY-NJ-CT PM2.5 nonattainment area. This SIP revision was developed in accordance with EPA's transportation conformity rule (69 FR 40028; July 1, 2004), which allows states with PM2.5 nonattainment areas to adopt early motor vehicle emission budgets that address the annual PM2.5 NAAQSs in advance of a complete SIP attainment demonstration. This SIP revision establishes early budgets to simplify the conformity process for Connecticut Metropolitan Planning Organizations (MPOs) while increasing the level of protection for Connecticut's citizens during this interim period before PM2.5 attainment plans are due in April 2008.

The PM2.5 motor vehicle emission budgets for calendar year 2009 included in Connecticut's April 17, 2007 SIP revision apply to MPOs in the Connecticut counties of Fairfield and New Haven. Before these budgets were determined adequate (see Section C below), these Connecticut MPOs were required to determine conformity jointly with the New York MPOs included in the NY-NJ-CT PM2.5 nonattainment area based on a calendar year 2002 interim baseline budget test. Consistent with a supplemental EPA rulemaking on transportation conformity (70 FR 24280; May 6, 2005), Connecticut's April 17, 2007 SIP revision establishes early motor vehicle budgets for direct PM2.5 emissions and for emissions of nitrogen oxides (NOX) [the only PM2.5 precursor found to be significant at this time for onroad mobile sources]. Since the budgets have been determined adequate, Connecticut MPOs must demonstrate that all transportation plans result in emissions of PM2.5 and NOX that do not exceed the annual 2009 motor vehicle emissions budget levels.

II. Comparison of Year 2002 Emissions to Year 2009

The total inventory of direct PM2.5 emissions for the Connecticut portion of the NY-NJ-CT PM2.5 nonattainment Area is 6,663 tons in calendar year 2002, and is projected to be 6,495 tons in calendar year 2009. This represents an overall inventory reduction of 2.5% (168 tons of direct PM2.5 emissions). Table 1, below, compares calculated year 2002 and year 2009 direct PM2.5 inventories by source type for the Connecticut portion of the NY-NJ-CT PM2.5 nonattainment area. Although direct PM2.5 emissions from area and point sources are projected to increase by two and eight percent, respectively, emissions from nonroad and onroad sources are projected to decrease by 13 and 31 percent, respectively.

Table 1.—Direct Annual PM2.5 Emissions
[Tons]
| Area: 2002 | Area: 2009 | Nonroad: 2002 | Nonroad: 2009 | Point: 2002 | Point: 2009 | Onroad: 2002 | Onroad: 2009
Fairfield County | 2,349 | 2,388 | 526 | 454 | 190 | 202 | 269 | 185
New Haven County | 2,427 | 2,476 | 448 | 395 | 202 | 220 | 252 | 175
Total for CT Portion of NY-NJ-CT PM2.5 Nonattainment Area | 4,776 | 4,864 | 974 | 849 | 392 | 422 | 521 | 360

The total inventory of NOX emissions for the Connecticut portion of the NY-NJ-CT PM2.5 nonattainment area is 61,199 tons in calendar year 2002, and projected to be 44,433 tons in calendar year 2009. This represents an overall inventory reduction of 27% (16,766 tons of NOX emissions). Table 2, below, compares calculated 2002 and 2009 annual NOX inventories by source type for the Connecticut portion of the NY-NJ-CT PM2.5 nonattainment area. Although NOX emissions from area and point sources are projected to increase by four and seven percent, respectively, emissions from nonroad and onroad sources are projected to decrease by 12 and 46 percent, respectively.

Table 2.—Annual NOX Emissions
[Tons]
| Area: 2002 | Area: 2009 | Nonroad: 2002 | Nonroad: 2009 | Point: 2002 | Point: 2009 | Onroad: 2002 | Onroad: 2009
Fairfield County | 3,134 | 3,269 | 7,150 | 6,104 | 3,892 | 4,183 | 17,411 | 9,314
New Haven County | 2,937 | 3,061 | 7,935 | 7,108 | 2,305 | 2,429 | 16,435 | 8,965
Total for CT Portion of NY-NJ-CT PM2.5 Nonattainment Area | 6,071 | 6,330 | 15,085 | 13,212 | 6,197 | 6,612 | 33,846 | 18,279

III. Adequacy Process and SIP Approval

On March 2, 1999, the United States Court of Appeals for the District of Columbia Circuit issued a decision on EPA's third set of transportation conformity amendments in response to a case brought by the Environmental Defense Fund. The decision held that conformity determinations could no longer be based on submitted SIP emissions budgets, prior to a positive adequacy determination by EPA.

A May 14, 1999, EPA memorandum from Gay MacGregor to the Regional Division Directors provides guidance on how to review budgets for adequacy and the process for public comment and notification (posting on the Web). The May 14, 1999 guidance is available on EPA's conformity Web site at URL address: http://www.epa.gov/otaq/stateresources/transconf/policy/epaguidf.pdf. EPA provided additional guidance in its Final Rulemaking on July 1, 2004 (69 FR 40004-40081) “Transportation Conformity Rule Amendments for the New 8-hour Ozone and PM2.5 National Ambient Air Quality Standards and Miscellaneous Revisions for Existing Areas; Transportation Conformity Rule Amendments: Response to Court Decision and Additional Rule Changes; Final Rule.”

EPA initiated the adequacy process for Connecticut's motor vehicle emissions budgets on April 19, 2007, by announcing that Connecticut had submitted an early progress SIP for PM2.5 on EPA's Web site “SIP Submissions Currently Under EPA Adequacy Review” http://www.epa.gov/otaq/stateresources/transconf/currsips.htm. The criteria by which EPA determines whether a SIP's motor vehicle emission budgets are adequate for conformity purposes are outlined in 40 CFR 93.118(e)(4)(i) through 93.118(e)(4)(vi) and 93.118(e)(5). On May 24, 2007, EPA notified the Connecticut Department of Environmental Protection (CT DEP) that no comments were received during the thirty day public comment period, and that EPA had determined the 2009 motor vehicle emissions budgets submitted on April 17, 2007, to be adequate for transportation conformity purposes. EPA New England published a Notice of Adequacy Federal Register on Tuesday, June 5, 2007 (72 FR 31069), announcing our May 24, 2007 adequacy determination and making the motor vehicle emissions budgets effective on June 20, 2007. A copy of EPA's May 24, 2007 adequacy determination to CT DEP and the Federal Register Notice of Adequacy are both posted in the electronic docket as well as on EPA's Web site “SIP Submissions that EPA has Found Adequate or Inadequate,” at URL address: http://www.epa.gov/otaq/stateresources/transconf/pastsips.htm.

This positive adequacy determination simplifies the administrative process for demonstrating transportation conformity by establishing the 2009 direct PM2.5 and NOX motor vehicle emissions budgets as conformity criteria for all 2009 and later evaluation years. Connecticut's early motor vehicle emissions budgets will insure progress is made towards achieving and maintaining the PM2.5 NAAQS by limiting the transportation sector to a more restrictive year 2009 level of on-road direct PM2.5 and NOX than currently allowed by transportation conformity's interim emissions tests which are based on 2002 emissions in the New York and Connecticut portions of the nonattainment area. Connecticut will also be able to evaluate conformity independently and will no longer be required to re-evaluate conformity whenever a MPO in the New York portion of the New York-Northern New Jersey-Long Island, NY-NJ-CT PM2.5 nonattainment area triggers conformity. EPA's adequacy determination for New Jersey's PM2.5 motor vehicle emissions budgets (71 FR 33305; June 8, 2006) already allows New Jersey to independently determine conformity.

Today's direct final rulemaking approves Connecticut's adequate 2009 direct PM2.5 and NOX motor vehicle emissions budgets into the Connecticut SIP.

IV. Transportation Conformity Motor Vehicle Emissions Budgets

The early direct PM2.5 and NOX annual motor vehicle emissions budgets being established are the on-road portion of the 2009 projections illustrated in Table 3, below, 360 tons per year for direct PM2.5 and 18,279 tons per year for NOX. The State of Connecticut Department of Transportation and Metropolitan Planning Organizations within the Connecticut portion of the NY-NJ-CT PM2.5 nonattainment area [Council of Governments of the Central Naugatuck Valley (portion), Greater Bridgeport and Valley Regional Planning Organizations, Housatonic Valley Council of Elected Officials (portion), South Central Regional Council of Governments, and South Western Regional Planning Agency], shall use these budgets for future transportation conformity determinations.

Table 3.—2009 Transportation Conformity Emission Budgets
| Annual direct PM2.5 emissions (tons) | Annual NOX emissions (tons)
Connecticut Portion of the NY-NJ-CT PM2.5 Nonattainment Area | 360 | 18,279

V. Basis for Approval

EPA's review of Connecticut's SIP revision concludes that this SIP revision is consistent with EPA's Transportation Conformity Rule. Approval of Connecticut's SIP revision is directionally sound since it would approve year 2009 motor vehicle emissions budgets which are more stringent than the year 2002 baseline emissions now used to evaluate transportation conformity in the NY-NJ-CT PM2.5 nonattainment area. The projected overall annual inventory reduction in direct PM2.5 emissions from 2002 to 2009 is approximately 2.5 percent, along with a 27 percent reduction in NOX emissions. This results from a projected 31 percent reduction in direct PM2.5 emissions and a 46 percent reduction in NOX emissions from onroad sources.

Connecticut's projected reduction in direct PM2.5 and NOX emissions demonstrates progress towards attainment of the PM2.5 annual standard. Although, the projected reduction in direct PM2.5 emissions is below the five to ten percent reduction that was provided as an example in the July 2004 conformity rule preamble (69 FR 40019; July 1, 2004), EPA believes that Connecticut's early progress SIP should be approved since it will strengthen the existing SIP. Listed below are several factors that make Connecticut's SIP package directionally sound.

1. Fairfield County and New Haven County were included in the New York-Northern New Jersey-Long Island, NY-NJ-CT PM2.5 nonattainment area because of traffic and commuting patterns and other weighting factors used in EPA's designation process. Connecticut has never monitored values at or above the annual NAAQSs for PM2.5.¹

¹ This SIP is addressing requirements for the annual PM2.5 standard. Nonattainment of the revised 24-hour PM2.5 standard (35 micrograms per cubic meter of air (μg/m3)) has not yet been determined.

2. There were no monitored violations of EPA's annual PM2.5 standard in Fairfield and New Haven counties in 2002, and any reduction in the overall inventory for the two county area below 2002 levels should help ensure that this level of air quality is maintained or improved in the future.

3. There is a significant projected tonnage decrease in overall PM2.5 emissions (168 tons) and NOX emissions (16,766 tons) by 2009 in comparison to 2002 base year levels.

4. There is a very large percent reduction projected in both PM2.5 direct and NOX on-road emissions (31% and 46%, respectively) and traffic and commuting patterns were one of the areas highlighted in the technical support documentation for EPA's PM2.5 designation decisions.

5. The large reduction in Connecticut's NOX emissions (27% overall reduction from all inventory sources) may be more beneficial to transport issues by reducing precursors, than immediate reduction of direct PM2.5 emissions in Connecticut.

VI. Final Action

EPA is approving the Connecticut SIP revision for establishment of interim progress for the annual fine particle National Ambient Air Quality Standard, which was submitted on April 17, 2007. The direct PM2.5 and annual NOX motor vehicle emissions budgets being approved are the on-road mobile source 2009 projections of 360 tons per year of direct PM2.5 and 18,279 tons per year of NOX. These motor vehicle emissions budgets must be used to demonstrate that all transportation plans in the Connecticut portion of the NY-NJ-CT PM2.5 nonattainment area result in emissions of PM2.5 and NOX that do not exceed the annual 2009 motor vehicle emissions budget levels.

The EPA is publishing this rule without prior proposal because the Agency views this as a noncontroversial amendment and anticipates no adverse comments. However, in the proposed rules section of this Federal Register publication, EPA is publishing a separate document that will serve as the proposal to approve the SIP revision should adverse comments be filed. This action will be effective October 29, 2007 without further notice unless the EPA receives adverse comments by October 1, 2007.

If the EPA receives such comments, then EPA will publish a document withdrawing the final rule and informing the public that the rule will not take effect. All public comments received will then be addressed in a subsequent final rule based on the proposed rule. The EPA will not institute a second comment period. Parties interested in commenting should do so at this time. If no such comments are received, the public is advised that this rule will be effective on October 29, 2007 and no further action will be taken on the proposed rule.

VII. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves State law as meeting Federal requirements and imposes no additional requirements beyond those imposed by State law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 “Protection of Children from Environmental Health Risks and Safety Risks” (62 FR 19885, April 23, 1997), because it approves a state rule implementing a Federal standard.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by October 29, 2007. Interested parties should comment in response to the proposed rule rather than petition for judicial review, unless the objection arises after the comment period allowed for in the proposal. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Intergovernmental relations, Particulate matter, Reporting and recordkeeping requirements, Sulfur oxides, Volatile organic compounds.

Dated: August 20, 2007.
Robert W. Varney,
Regional Administrator, EPA New England.

Part 52 of chapter I, title 40 of the Code of Federal Regulations is amended as follows:

PART 52—[AMENDED]

1. The authority citation for part 52 continues to read as follows:

Authority: 42 U.S.C. 7401 et seq.

Subpart H—Connecticut

2. Section 52.379 is added to read as follows:

§ 52.379 Control strategy: PM2.5.

Approval—Revision to the State Implementation Plan submitted by the Connecticut Department of Environmental Protection (DEP) on April 17, 2007. the revision is for the purpose of establishing early fine particulate (PM2.5) transportation conformity emission budgets for the Connecticut portion of the New York-Northern New Jersey-Long Island, NY-NJ-CT PM2.5 nonattainment area. The April 17, 2007 revision establishes PM2.5 motor vehicle emission budgets for 2009 of 360 tons per year of direct PM2.5 emissions and 18,279 tons per year of NOX emissions to be used in transportation conformity in the Connecticut portion of the New York-Northern New Jersey-Long Island, NY-NJ-CT PM2.5 nonattainment area.

[FR Doc. E7-17004 Filed 8-29-07; 8:45 am]

BILLING CODE 6560-50-P